DEPARTMENT OF TRANSPORTATION

Federal Transit Administration

Environmental Impact Statement for North-South Rail Link in Boston, MA

AGENCY: Federal Transit Administration, DOT.

ACTION: Notice of EIS cancellation.

SUMMARY: Notice is hereby given that the Federal Transit Administration (FTA) is canceling its preparation of an Environmental Impact Statement (EIS) for a rail-in-tunnel connection between North and South Stations in downtown Boston, Massachusetts. The project sponsor, the Massachusetts Bay Transportation Authority (MBTA), has announced its intention not to pursue the project at this time for lack of financial resources.

FOR FURTHER INFORMATION CONTACT: Richard H. Doyle, Regional Administrator, FTA Region 1, (617) 494-2055.

SUPPLEMENTARY INFORMATION: On March 8, 1995, FTA published a Notice of Intent (NOI) to prepare an EIS for a North-South Rail Link (60 FR 12819): a rail-in-tunnel connection between the MBTA's North and South Stations in downtown Boston, intended to connect the MBTA's separate commuter rail systems on the north and south sides of Boston and to close the gap in intercity rail service between Boston and Portland, Maine. On April 14, 2003, however, the MBTA informed FTA of its intention to forego this project in the near future in light of the MBTA's limited financial resources and its pursuit of certain other projects of higher priority. In response, on May 30, 2003, FTA recommended that the results of the MBTA's alternatives analyses to date be compiled as a Major Investment Study (MIS): a document that could provide an appropriate planning context for further consideration of alternatives for a North-South Rail link. In accordance with FTA's metropolitan planning requirements at 23 CFR part 450, an MIS may precede the preparation of an EIS and be a useful tool for developing local consensus, financing, and an implementation strategy for a fixed guideway transit project. Thus, on June 24, 2003, the MBTA published an MIS for the North-South Rail Link, which had been prepared with financial assistance from FTA. Should the MBTA choose in the future to again pursue a North-South Rail Link, this June 2003 MIS could serve as a foundation of analysis for a subsequent EIS. Given the MBTA's current intentions, however, there is no longer a proposal for Federal action on the North-South Rail Link subject to the requirements of the National Environmental Policy Act, therefore, FTA is rescinding its March 8, 1995 NOI and terminating its preparation of an EIS for the North South Rail Link.

Issued on: June 27, 2003.
Richard H. Doyle,
Regional Administrator.

[FR Doc. 03-16977 Filed 7-3-03; 8:45 am]

BILLING CODE 4910-57-P